DEPARTMENT OF VETERANS AFFAIRS

[OMB Control No. 2900-0098]

Agency Information Collection Activity Under OMB Review: Dependents' Application for VA Education Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link: www.reginfo.gov/public/do/PRAMain. Select “Currently under Review—Open for Public Comments”, then search the list for the information collection by Title or “OMB Control No. 2900-0098.”

FOR FURTHER INFORMATION CONTACT: Maribel Aponte, Office of Enterprise and Integration, Data Governance Analytics (008), 810 Vermont Ave. NW, Washington, DC 20420, (202) 266-4688 or email Maribel.aponte@va.gov. Please refer to “OMB Control No. 2900-0098” in any correspondence.

SUPPLEMENTARY INFORMATION:

Authority: 38 U.S.C. 3311 (as amended by Pub. L. 113-146, section 701, effective August 7, 2014), 3513, 3697A, 5113, 5101, 5102, and 5103; 38 CFR 21.3030 and 21.9510.

Title: Dependents' Application for VA Education Benefits, VA Form 22-5490.

OMB Control Number: 2900-0098.

Type of Review: Revision of a currently approved collection.

Abstract: The VA's Veterans Claims Examiners use the information from this collection to help determine whether a claimant qualifies for DEA or Fry Scholarship benefits. The information on the form can be obtained only from the claimant, and an eligibility determination cannot be made without the information.

An agency may not conduct or sponsor, and a person is not required to respond to a collection of information unless it displays a currently valid OMB control number. The Federal Register Notice with a 60-day comment period soliciting comments on this collection of information was published at 88 FR 67452 on Friday, September 29, 2023, Pages 67452-67453.

Affected Public: Individuals and Households.

Estimated Annual Burden: 48,983 hours.

Estimated Average Burden Time per Respondent: 45 and 25 min., (paper and electronic, respectively).

Frequency of Response: Once.

Estimated Number of Respondents: 83,972.

By direction of the Secretary.
Maribel Aponte,
VA PRA Clearance Officer, Office of Enterprise and Integration, Data Governance Analytics, Department of Veterans Affairs.

[FR Doc. 2023-26369 Filed 11-29-23; 8:45 am]

BILLING CODE 8320-01-P